ENVIRONMENTAL PROTECTION AGENCY

[CERCLA-04-2012-3770, FRL-9663-8]

American Drum & Pallet, Memphis, Shelby County, TN; Notice of Settlement

AGENCY: Environmental Protection Agency.

ACTION: Notice of settlement.

SUMMARY: Under the Comprehensive Environmental Response, Compensation and Liability Act (CERCLA), the United States Environmental Protection Agency has entered into a settlement for reimbursement of past response costs concerning the American Drum and Pallet Superfund Site located in Memphis, Shelby County, Tennessee for publication.

DATES: The Agency will consider public comments on the settlement until May 23, 2012. The Agency will consider all comments received and may modify or withdraw its consent to the settlement if comments received disclose facts or considerations which indicate that the settlement is inappropriate, improper, or inadequate.

ADDRESSES: Copies of the settlement are available from Ms. Paula V. Painter. Submit your comments, identified by Docket ID No. CERCLA-04-2012-3770 or Site name American Drum & Pallet Superfund Site by one of the following methods:

• www.epa.gov/region4/superfund/programs/enforcement/enforcement.htm1.

• Email: Painter.Paula@epa.gov.

FOR FURTHER INFORMATION CONTACT: Paula V. Painter at 404/562-8887.

Dated: April 9, 2012.
Anita L. Davis,
Chief, Superfund Enforcement & Information Management Branch, Superfund Division.

[FR Doc. 2012-9696 Filed 4-20-12; 8:45 am]

BILLING CODE 6560-50-P